DEPARTMENT OF HOUSING AND URBAN DEVELOPMENT

[Docket No. FR-4966-N-02]

The Performance Review Board

AGENCY: Office of the Deputy Secretary, HUD.

ACTION: Notice of appointments.

SUMMARY: The Department of Housing and Urban Development announces the appointments of Aronetta Jo Baylor, Harold L. Bunce, L. Carter Cornick, and Michael F. Hill as members; and James M. Martin as an alternate member to the Departmental Performance Review Board. The address is: Department of Housing and Urban Development, Washington, DC 20410-0001.

FOR FURTHER INFORMATION CONTACT: Persons desiring any further information about the Performance Review Board and its members may contact Earnestine Pruitt, Director, Executive Personnel Management Division, Department of Housing and Urban Development, Washington, DC 20410-3000, telephone (202) 708-1381. (This is not a toll-free number.)

Dated: September 7, 2005.
Roy A. Bernardi,
Deputy Secretary.

[FR Doc. E5-5003 Filed 9-13-05; 8:45 am]

BILLING CODE 4210-32-P